DEPARTMENT OF ENERGY

Federal Energy Regulatory Commission

[FERC Docket No. CP09-54-000]

Ruby Pipeline, L.L.C.; Notice of Availability of the Draft Environmental Impact Statement and Notice of Public Comment Meetings for the Ruby Pipeline Project

June 19, 2009.

The staff of the Federal Energy Regulatory Commission (FERC or Commission) has prepared a draft Environmental Impact Statement (EIS) on the natural gas pipeline facilities proposed by Ruby Pipeline, L.L.C. (Ruby) in the above-referenced docket. The Ruby Pipeline Project facilities would be located in Wyoming, Utah, Nevada, and Oregon and would be capable of transporting up to 1.5 million dekatherms per day of natural gas.

The draft EIS was prepared to satisfy the requirements of the National Environmental Policy Act of 1969 (NEPA). The U.S. Department of Interior, Bureau of Land Management (BLM), Bureau of Reclamation, and Fish and Wildlife Service; the U.S. Department of Agriculture, Forest Service (USFS) and Natural Resources Conservation Service; the U.S. Army Corps of Engineers; the State of Utah Public Lands Policy Coordination Office; and the Board of County Commissioners in Lincoln County, Wyoming are participating as cooperating agencies in the preparation of the EIS. Cooperating agencies have jurisdiction by law or special expertise with respect to resources potentially affected by the proposal, and participate in the NEPA analysis. The Ruby Pipeline Project would require permits from the cooperating agencies pursuant to right-of-way grants (and/or temporary use or special use permits) for federally administered lands/canals crossed in Wyoming, Utah, Nevada, and Oregon.

Based on the analysis included in the EIS, the FERC staff concludes that construction and operation of the Ruby Pipeline Project would result in some adverse environmental impacts. However, most of these would be reduced to less-than-significant levels with the implementation of Ruby's proposed mitigation measures; additional measures and agreements being discussed by Ruby and other agencies related to permitting or conservation agreements; and the additional measures recommended by staff in the EIS.

The draft EIS addresses the potential environmental effects of the following project facilities:

• About 675.2 miles of 42-inch-diameter mainline pipeline;

• About 2.6 miles of 42-inch-diameter lateral pipeline;

• 1 electric-powered compressor station and 3 natural gas-powered compressor stations (totaling 160,500 horsepower of new compression);

• 4 meter stations containing interconnects to other pipeline systems;

• 44 mainline valves;

• 20 pig launchers or receivers;

• 5 new communication towers; and

• Miscellaneous communications equipment installed at eight existing communication towers.

Comment Procedures and Public Meetings

You can make a difference by providing us with your specific comments or concerns about the Ruby Pipeline Project. Your comments should focus on the potential environmental effects, reasonable alternatives, and measures to avoid or lessen environmental impacts. The more specific your comments, the more useful they will be. To ensure consideration of your comments on the proposal in the final EIS, it is important that the Commission receive your comments before August 10, 2009.

For your convenience, there are four methods in which you can use to submit your comments to the Commission. In all instances please reference the project docket number CP09-54-000 with your submission. The Commission encourages electronic filing of comments and has dedicated eFiling expert staff available to assist you at (202) 502-8258 or efiling@ferc.gov. Please carefully follow these instructions so that your comments are properly recorded:

(1) You may file your comments electronically by using the Quick Comment feature, which is located on the Commission's Internet Web site at http://www.ferc.gov under the link Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign-up” or “eRegister.” You will be asked to select the type of filing your are making. A comment on a particular project is considered a “Comment on a Filing;”

(3) You may file your comments via mail to the Commission by sending an original and two copies of your letter to: Kimberly D. Bose, Secretary, Federal Energy Regulatory Commission, 888 First St., NE; Room 1A, Washington, DC 20426; label one copy of your comments for the attention of the Gas Branch 1, PJ-11.1 and reference Docket No. CP09-54-000 on the original and both copies; and

(4) In lieu of sending written or electronic comments, the FERC invites you to attend one of the public comment meetings the staff will conduct in the project area to receive comments on the draft EIS. All meetings will begin at 7 p.m., local time, and are scheduled as follows:

Date | Location
July 21, 2009 | Malin Community Hall, 2307 Front Street. Malin, OR 97623.
July 22, 2009 | Elks Lodge, 323 N. F Street, Lakeview, OR 97630.
July 23, 2009 | Winnemucca Convention Center, 50 W. Winnemucca Blvd., Winnemucca, NV 89445.
July 27, 2009 | Brigham City Senior Center, 24 N 300 W, Brigham City, UT 84302.
July 28, 2009 | Hilton Garden Inn, 3650 East Idaho St., Elko, NV 89801.
July 29, 2009 | Kemmerer Senior Center, 105 J.C. Penney Drive, Kemmerer, WY 83101.
July 30, 2009 | Hyrum Civic Center, 83 W. Main St., Hyrum, UT 84319.

Interested groups and individuals are encouraged to attend and present oral comments on the draft EIS. Transcripts of the meetings will be prepared.

After the comments are reviewed, any significant new issues are investigated, and modifications are made to the draft EIS, a final EIS will be published and distributed. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on the draft EIS. You must file your request to intervene as specified above.¹ Only intervenors have the right to seek rehearing of the Commission's decision. You do not need intervenor status to have your comments considered.

¹ Interventions may also be filed electronically via the Internet in lieu of paper. See the previous discussion on filing comments electronically.

The draft EIS has been placed in the public files of the FERC, BLM, and USFS and is available for public inspection at:

Federal Energy Regulatory Commission | U.S. Bureau of Land Management | U.S. Forest Service
Public Reference Room, 888 First Street, NE., Room 2A, Washington, DC 20426, (202) 502-8371. | Wyoming State Office, P.O. Box 1828, Cheyenne, WY 82003. Kemmerer Field Office, 312 Highway 189 N, Kemmerer, WY 83101. Utah State Office, 440 West 200 South, Suite 500, Salt Lake City, UT 84145-0155. | Uinta-Wasatch-Cache National Forest, Ogden Ranger District, 507 25th Street, Ogden, UT 84401. Uinta-Wasatch-Cache National Forest, Salt Lake Office, 8256 Federal Building, 125 S. State Street, Salt Lake City, UT 84138.
| Salt Lake Field Office, 2370 South 2300 West, Salt Lake City, UT 84119. | Fremont-Winema National Forest, 1301 S. G Street, Lakeview, OR 97630.
| Nevada State Office, 1340 Financial Blvd., Reno, NV 89502. | U.S. Forest Service Intermountain Regional Office, 324 25th Street, Ogden, UT 84401.
| Elko District Office, 3900 E. Idaho Street, Elko, NV 89801.
| Winnemucca District Office, 5100 E. Winnemucca Blvd., Winnemucca, NV 89445.
| Surprise Field Office, 602 Cressler Street, Cedarville, CA 96104.
| Oregon State Office, 333 SW First Avenue, Portland, OR 97204.
| Lakeview Office, 1301 S. G Street, Lakeview, OR 97630.
| Klamath Falls Office, 2795 Anderson Avenue, Bldg. #25, Klamath Falls, OR 97603.

A limited number of hard copies and CD-ROMs of the draft EIS are available from the FERC's Public Reference Room identified above. The draft EIS is also available for public viewing on the FERC's Internet Web site at http://www.ferc.gov. In addition, copies of the draft EIS have been mailed to federal, state, and local government agencies; elected officials; Native American tribes; local libraries and newspapers; intervenors in the FERC's proceeding; individuals who provided scoping comments; affected landowners and individuals who requested the draft EIS; and new landowners identified as being crossed by route alternatives either recommended by FERC staff or stuill under consideration.

Route Alternatives Recommended or Considered by FERC in the Draft EIS

Some landowners are receiving the draft EIS because their property has been identified as potentially being affected by certain route alternatives recommended or considered by FERC staff to avoid or lessen environmental impacts along Ruby's proposed pipeline route in several locations. Refer to the discussion of the Terrace Basin, Willow Creek, Southern Langell Valley, Sheldon, and Black Rock Route Alternatives in section 3.4 of the draft EIS. Please note that while staff has recommended the use of the first three listed alternatives, a decision whether or not to recommend use of the Sheldon Route Alternative or Black Rock Route Alternative has not yet been made. The Commission staff wants to ensure that all potentially affected landowners have the opportunity to participate in the environmental review process, thus staff is soliciting comments to assist with the environmental analysis of these route alternatives, which will be presented in the final EIS.

Additional information about the project is available from the Commission's Office of External Affairs, at 1-866-208-FERC (3372) or on the FERC Internet Web site (http://www.ferc.gov). Using the “eLibrary” link, select “General Search” from the eLibrary menu, enter the selected date range and “Docket Number,” excluding the last three digits in the Docket Number field (i.e., CP09-54), and follow the instructions. You may also search using the phrase “Ruby Pipeline Project” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. To register for this service, go to http://www.ferc.gov/esubscribenow.htm.

Kimberly D. Bose,
Secretary.

[FR Doc. E9-15151 Filed 6-25-09; 8:45 am]

BILLING CODE 6717-01-P